ENVIRONMENTAL PROTECTION AGENCY

[EPA-HQ-OAR-2004-0073; FRL-8711-7]

Agency Information Collection Activities; Proposed Collection; Comment Request; Requirements for Control Technology Determinations for Constructed and Reconstructed Major Sources of Hazardous Air Pollutants; EPA ICR No. 1658.05, OMB Control No. 2060-0373

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. This ICR is scheduled to expire on October 31, 2008. The ICR, which is abstracted below, describes the nature of the information collection and its estimated burden and cost.

DATES: Additional comments may be submitted on or before October 6, 2008.

ADDRESSES: Submit your comments, referencing Docket ID No. EPA-HQ-OAR-2004-0073 to (1) EPA online using www.regulations.gov (our preferred method), by e-mail to a-and-r-docket@epa.gov, or by mail to: Air and Radiation Docket and Information Center, Environmental Protection Agency, Mailcode: 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Rick Colyer, U.S. EPA, Office of Air Quality Planning and Standards, Sector Policy and Programs Division, Program Design Group, D205-02, Research Triangle Park, North Carolina 27711, telephone number (919) 541-5262, e-mail colyer.rick@epa.gov.

SUPPLEMENTARY INFORMATION: EPA has submitted the following ICR to OMB for review and approval according to the procedures prescribed in 5 CFR 1320.12. On May 22, 2008 (73 FR 29750) EPA sought comments on this ICR pursuant to 5 CFR 1320.8(d). EPA received no comments during the comment period. Any additional comments on this ICR should be submitted to EPA and OMB within 30 days of this notice.

EPA has established a public docket for this ICR under Docket ID No. EPA-HQ-OAR-2004-0073, which is available for online viewing at www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Control Technology Determination for Constructed or Reconstructed Major Sources of Hazardous Air Pollutants.

ICR numbers: EPA ICR No. 1658.05, OMB Control No. 2060-0373.

ICR status: This ICR is scheduled to expire on October 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 112(g)(2)(B) of the Clean Air Act as amended in 1990 (CAA) requires that maximum achievable control technology (MACT) standards be met by constructed or reconstructed major sources of hazardous air pollutants (HAP). Where no applicable emission limit has been set, the MACT determination shall be made on a case-by-case basis. The source owner or operator must submit certain information to allow the permitting authority to perform a case-by-case MACT determination (40 CFR 63.43(e)). Permitting agencies, either State, local, Tribal or Federal, review information submitted and make case-by-case MACT determinations. Specific activities and requirements are listed and described in the Supporting Statement for the ICR.

Burden Statement: The annual public reporting and recordkeeping burden for this collection of information is estimated to average 134 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators who construct or reconstruct a major source of HAP emissions and are responsible for obtaining a case-by-case MACT determination under CAA section 112(g); State, local, and Tribal agencies with operating permit programs that have been approved by EPA.

Estimated Number of Annual Respondents: 48.

Frequency of Response: Once.

Estimated Total Annual Hour Burden: 6,437.

Estimated Total Annual Cost: $432,503, which includes $969 in O&M costs and no capital costs.

Changes in the Estimates: There is a decrease of 30,363 hours in the total estimated burden currently identified in the OMB Inventory of Approved ICR Burdens. The primary reason for the decrease in estimated burden hours is because the universe of potentially affected sources is much smaller than that estimated under the currently approved ICR. The 112(g) regulation applies to constructed or reconstructed major sources for which no MACT standard exists. Since approval of the current ICR, we have completed promulgation of MACT standards for the source category list, resulting in few major sources that could be constructed or reconstructed over the next 3 years that do not have applicable MACT standards.

Dated: August 28, 2008.
Sara Hisel-McCoy,
Director, Collection Strategies Division.

[FR Doc. E8-20597 Filed 9-4-08; 8:45 am]

BILLING CODE 6560-50-P